ENVIRONMENTAL PROTECTION AGENCY

[OPP-34249; FRL-6813-9]

Organophosphate Pesticides; Availability of Azinphos-Methyl and Phosmet Interim Risk Management Decision Documents

AGENCY: Environmental Protection Agency (EPA).

ACTION: Notice.

SUMMARY: This notice announces the availability of the interim risk management decision documents for azinphos-methyl and phosmet. In addition, this notice starts a 60-day public participation period during which the public is encouraged to submit comments on the azinphos-methyl and phosmet interim risk management decision documents. These decision documents have been developed as part of the public participation process that EPA and U.S. Department of Agriculture (USDA) are now using for involving the public in the reassessment of pesticide tolerances under the Food Quality Protection Act (FQPA), and the reregistration of individual organophosphate pesticides under the Federal Insecticide, Fungicide, and Rodenticide Act (FIFRA).

DATES: Comments, identified by docket control number OPP-34131D for azinphos-methyl and by docket control number OPP-34173C for phosmet must be received by EPA on or before January 28, 2002.

ADDRESSES: Comments may be submitted by mail, electronically, or in person. Please follow the detailed instructions for each method as provided in Unit III. of the SUPPLEMENTARY INFORMATION. To ensure proper receipt by EPA, it is imperative that you identify the docket control number OPP-34131D for azinphos-methyl and the docket control number OPP-34173C for phosmet in the subject line on the first page of your response.

FOR FURTHER INFORMATION CONTACT: For information on azinphos-methyl contact: Veronique LaCapra, Special Review and Reregistration Division (7508C), Office of Pesticide Programs, Environmental Protection Agency, 1200 Pennsylvania Ave., NW., Washington, DC 20460; telephone number: (703) 605-1525; e-mail address: lacapra.veronique@epa.gov.

For information on phosmet contact: Diane Isbell, Special Review and Reregistration Division (7508C), Office of Pesticide Programs, Environmental Protection Agency, 1200 Pennsylvania Ave., NW., Washington, DC 20460; telephone number: (703) 308-8154; e-mail address: isbell.diane@epa.gov.

SUPPLEMENTARY INFORMATION:

I. Does this Action Apply to Me?

This action is directed to the public in general, nevertheless, a wide range of stakeholders will be interested in obtaining the azinphos-methyl and/or the phosmet interim risk management decision documents and submitting comments on azinphos-methyl and/or phosmet, including environmental, human health, and agricultural advocates; the chemical industry; pesticide users; and members of the public interested in the use of pesticides on food. As such, the Agency has not attempted to specifically describe all the entities potentially affected by this action. If you have any questions regarding the applicability of this action to a particular entity, consult the persons listed under FOR FURTHER INFORMATION CONTACT.

II. How Can I Get Additional Information, Including Copies of this Document or Other Related Documents?

A. Electronically. You may obtain electronic copies of this document and other related documents from the EPA Internet home page at http://www.epa.gov/. To access this document, on the home page select “Laws and Regulations,” “Regulations and Proposed Rules,” and then look up the entry for this document under the “Federal Register—Environmental Documents.” You can also go directly to the Federal Register listings at http://www.epa.gov/fedrgstr/.

To access information about organophosphate pesticides and obtain electronic copies of the revised risk assessments and related documents mentioned in this notice, you can also go directly to the home page for the Office of Pesticide Programs (OPP) at http://www.epa.gov/pesticides/op/.

B. In person. The Agency has established an official record for this action identified by docket control number OPP-34131D for azinphos-methyl and by docket control number OPP-34173C for phosmet. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in Rm. 119, Crystal Mall #2, 1921 Jefferson Davis Hwy., Arlington, VA, from 8:30 a.m. to 4 p.m., Monday through Friday, excluding legal holidays. The Public Information and Records Integrity Branch (PIRIB) telephone number is (703) 305-5805.

III. How Can I Respond to this Action?

A. How and to Whom Do I Submit Comments?

You may submit comments through the mail, in person, or electronically. To ensure proper receipt by EPA, it is imperative that you identify docket control number OPP-34131D for azinphos-methyl and/or docket control number OPP-34173C for phosmet in the subject line on the first page of your response.

1. By mail. Submit comments to: Public Information and Records Integrity Branch, Information Resources and Services Division (7502C), Office of Pesticide Programs, Environmental Protection Agency, 1200 Pennsylvania Ave., NW., Washington, DC 20460.

2. In person or by courier. Deliver comments to: Public Information and Records Integrity Branch, Information Resources and Services Division, Office of Pesticide Programs, Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. Submit electronic comments by e-mail to: opp-docket@epa.gov, or you can submit a computer disk as described in this unit. Do not submit any information electronically that you consider to be CBI. Electronic comments must be submitted as an ASCII file, avoiding the use of special characters and any form of encryption. Comments and data will also be accepted on standard computer disks in WordPerfect 6.1/8.0 or ASCII file format. All comments in electronic form must be identified by docket control number OPP-34131D for azinphos-methyl and/or docket control number OPP-34173C for phosmet. Electronic comments may also be filed online at many Federal Depository Libraries.

B. How Should I Handle CBI Information that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the persons listed under FOR FURTHER INFORMATION CONTACT.

C. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this notice.

8. To ensure proper receipt by EPA, be sure to identify the docket control number assigned in the subject line on the first page of your response. You may also provide the name, date, and Federal Register citation.

IV. What Action is EPA Taking in this Notice?

EPA has assessed the risks of azinphos-methyl and phosmet and has reached an interim risk management decision for these organophosphate pesticides. For azinphos-methyl, 28 crop uses are being canceled, 7 crop uses are being phased-out over 4 years, and 8 crop uses will be allowed to continue as “time-limited” registrations for another 4 years. Prior to the expiration of the 4-year period, EPA will conduct a comprehensive review of these 8 crop uses, based on the latest scientific information, to determine if they should continue; the crops with time-limited registrations include: Apples/crabapples, blueberries, brussels sprouts, caneberries, pears, pine seed orchards, sweet cherries, and the use of azinphos-methyl by nurseries for quarantine requirement. The crop uses being phased out in 4 years include those for: Almonds, cotton, cranberries, peaches, pistachios, tart cherries, and walnuts.

For the 28 crop uses being canceled for azinphos-methyl, there will be no phase-out period since there are viable alternatives. Seven crops are being allowed to continue for 4 years to facilitate transition to viable alternatives. Also, the Agency will allow a time-limited registration for 4 years for 8 specific uses of azinphos-methyl.

For phosmet, 3 uses are being voluntarily canceled, 9 crops are being authorized for use under specific terms for 5 years, and 33 crops are being approved for continued use. The new measures on phosmet are being implemented under an agreement with the registrant. The 3 voluntary cancellations include use on: Domestic pets, household ornamentals, and household fruit trees. A group of 9 crops will be authorized for use for 5 years under specific terms: Apples, apricots, blueberries, crabapples, grapes, nectarines, peaches, pears, and plums/dried plums.

To enhance protection of agricultural workers from azinphos-methyl and phosmet during the phase-out and time-limited registration periods, a variety of stringent new precautions are being implemented to reduce exposure, including longer periods before a worker can enter a treated area, limiting the number of applications, and prohibiting aerial application for almost all azinphos-methyl uses.

Provided that risk mitigation measures are adopted, azinphos-methyl and phosmet fit into their own risk cup; their individual, aggregate risks are within acceptable levels.

EPA has been evaluating azinphos-methyl and phosmet as part of the Agency's ongoing process to individually review the organophosphate pesticides and take necessary risk reduction measures as required under the FQPA and FIFRA.

The interim risk management decision documents for azinphos-methyl and phosmet were developed as part of the organophosphate pesticide pilot public participation process, which increases transparency and maximizes stakeholder involvement in EPA's development of risk assessments and risk management decisions. The pilot public participation process was developed as part of the EPA-USDA Tolerance Reassessment Advisory Committee (TRAC), which was established in April 1998, as a subcommittee under the auspices of EPA's National Advisory Council for Environmental Policy and Technology. A goal of the pilot public participation process is to find a more effective way for the public to participate at critical junctures in the Agency's development of organophosphate pesticide risk assessments and risk management decisions. EPA and USDA began implementing this pilot process in August 1998, to increase transparency and opportunities for stakeholder consultation. EPA worked extensively with affected parties to reach the decisions presented in the interim risk management decision document for azinphos-methyl and phosmet.

In addition, this notice starts a 60-day public participation period during which the public is encouraged to submit written comments on the interim risk management decision document for azinphos-methyl and/or phosmet. Failure to participate or comment as part of this opportunity will in no way prejudice or limit a commenter's opportunity to participate fully in any later notice and comment processes. Comments submitted will become part of the Agency record for azinphos-methyl and phosmet.

The preliminary risk assessments for azinphos-methyl were released to the public on August 12, 1998 (63 FR 43175) (FRL-6024-3) through a notice published in the Federal Register. The revised risk assessments for azinphos-methyl were released to the public on May 19, 1999 (64 FR 27258) (FRL-6082-3) through a notice published in the Federal Register.

The preliminary risk assessments for phosmet were released to the public on January 15, 1999 (64 FR 2644) (FRL-6056-9) through a notice published in the Federal Register. The revised risk assessments for phosmet were released to the public on March 20, 2000 (65 FR 14967) (FRL-6499-2) through a notice published in the Federal Register.

The phosmet partial interim reregistration eligibility decision document and the benefits assessments for azinphos-methyl and phosmet were released to the public on September 13, 2001 (66 FR 47657) (FRL-6802-7) through a notice published in the Federal Register.

EPA's next step under FQPA is to consider the cumulative risks of the organophosphate pesticides, which share a common mechanism of toxicity. The interim risk management decision documents on azinphos-methyl and phosmet cannot be considered final until this consideration of organophosphate cumulative risks is complete.

When the cumulative risks of the organophosphate pesticides have been considered, EPA will issue its final tolerance reassessment decision for azinphos-methyl and phosmet and further risk mitigation measures may be needed.

List of Subjects

Environmental protection, Chemicals, Pesticides and pests.

Dated: November 20, 2001.
Jack E. Housenger,
Acting Director, Special Review and Reregistration Division, Office of Pesticide Programs.

[FR Doc. 01-29558 Filed 11-27-01; 8:45 am]

BILLING CODE 6560-50-S